DEPARTMENT OF COMMERCE

National Oceanic and Atmospheric Administration

[RTID 0648-XP007]

Pacific Island Fisheries; Western Pacific Stock Assessment Review; Public Meeting

AGENCY: National Marine Fisheries Service (NMFS), National Oceanic and Atmospheric Administration (NOAA), Commerce.

ACTION: Notice; public meeting.

SUMMARY: NMFS and the Western Pacific Fishery Management Council (Council) will convene a Western Pacific Stock Assessment Review (WPSAR) of a 2020 benchmark stock assessment for Hawaii gray jobfish (uku).

DATES: See SUPPLEMENTARY INFORMATION for meeting dates and times and daily agenda.

ADDRESSES: The meeting will be held at the Council office, 1164 Bishop St., Suite 1400, Honolulu, HI 96813.

FOR FURTHER INFORMATION CONTACT: Michael Seki, Director, NMFS Pacific Islands Fisheries Science Center, tel (808) 725-5360, fax (808) 725-5360, email michael.seki@noaa.gov.

SUPPLEMENTARY INFORMATION: The NMFS Pacific Islands Fisheries Science Center (PIFSC) conducted a single-species benchmark stock assessment of the gray jobfish (uku, Aprion virescens) in the main Hawaiian Islands. PIFSC previously conducted a stock assessment for uku in 2017 using a data-limited length-based approach. The 2020 benchmark assessment diverges significantly from the 2017 assessment in that it implements the first integrated assessment of a domestic stock in the U.S. Pacific Islands Region. The integrated assessment uses the Stock Synthesis (v. 3.30) framework to integrate catch per unit effort indices, size frequency, diver survey, and catch data into a single age-structured model. PIFSC used this integrated model to estimate biomass and stock status through time, and evaluated stock status against the maximum sustainable yield based reference points described in the Council's Fishery Ecosystem Plan for the Hawaii Archipelago. The 2020 assessment provides projections to inform management setting of acceptable biological catch and annual catch limits for 2020-2026.

Meeting Agenda

The WPSAR panel will meet from 9 a.m. to 5 p.m. each day. The agenda order may change, and the meeting will run as late as necessary to complete scheduled business.

Day 1, Monday February 24

1. Welcome and Introductions.

2. Background information—Objectives and Terms of Reference.

a. Fishery Operation.

b. Fishery Management.

3. History of stock assessments and reviews.

4. Data.

a. Hawaii Division of Aquatic Resources Fishing Report System and Hawaii Marine Recreational Fishery Survey.

b. Life history information.

c. Other.

5. Presentation and review of stock assessment.

Day 2, Tuesday February 25

6. Continue presentation and review of stock assessment.

Day 3, Wednesday February 26

7. Continue review of stock assessment.

Day 4, Thursday February 27

8. Continue review of stock assessment.

9. Public comment period.

10. Panel discussions (closed to the public).

Day 5, Friday February 28

11. Continue panel discussions (closed, morning).

12. Panel presents recommendations (afternoon).

13. Adjourn.

Special Accommodations

This meeting is physically accessible to people with disabilities. Please direct requests for sign language interpretation or other auxiliary aids to Michael Seki (see FOR FURTHER INFORMATION CONTACT section above) at least five days prior to the meeting date.

Authority: 16 U.S.C. 1801 et seq.

Dated: January 27, 2020.
Karyl K. Brewster-Geisz,
Acting Director, Office of Sustainable Fisheries, National Marine Fisheries Service.

[FR Doc. 2020-01777 Filed 1-30-20; 8:45 am]

BILLING CODE 3510-22-P